DEPARTMENT OF THE INTERIOR

National Park Service

Notice of Inventory Completion for Native American Human Remains and Associated Funerary Objects from Iowa in the Possession of the State Historical Society of Iowa, Des Moines, IA

AGENCY: National Park Service, Interior.

ACTION: Notice.

Notice is hereby given in accordance with provisions of the Native American Graves Protection and Repatriation Act (NAGPRA), 43 CFR 10.2 (d)(1), of the completion of an inventory of human remains and associated funerary objects in the possession of the State Historical Society of Iowa, Keyes Collection, Des Moines, IA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by the Office of the State Archaeologist of Iowa professional staff in consultation with representatives of the Three Affiliated Tribes of the Fort Berthold Reservation, North Dakota.

In 1934 and 1939, human remains representing 10 Mill Creek individuals were excavated from site 13PM1, Broken Kettle, Plymouth County, northwestern Iowa, by Ellison Orr, under the direction of Charles R. Keyes. No known individuals were identified. The 89 associated funerary objects include clamshells, pottery fragments, a chert flake, and a fire-cracked rock.

In 1939, human remains representing nine individuals were excavated from the Kimball site, 13PM4, Plymouth County, northwestern Iowa, by Ellison Orr, under the direction of Charles R. Keyes. No known individuals were identified. No associated funerary objects are present.

In 1934, human remains representing six individuals were excavated from site 13PM127, Ossuary 2, Plymouth County, northwestern Iowa, by Ellison Orr, under the direction of Charles R. Keyes. No known individuals were identified. No associated funerary objects are present.

The human remains and associated funerary objects included in this notice were recovered from excavations undertaken by Charles R. Keyes and Ellison Orr in northwestern Iowa between 1934 and 1939. They now form part of the Charles R. Keyes Archaeological Collection. Based on archeological and biological evidence, and similarities in material culture, these sites and remains have been identified as belonging, or probably belonging, to the Mill Creek cultural group that occupied this area in the 12th and 13th centuries. The Mandan and Hidatsa peoples are believed to be possibly culturally affiliated with the Mill Creek based on tenuous continuities of material culture and historical documents.

Based on the above-mentioned information, officials of the State Historical Society of Iowa have determined that, pursuant to 43 CFR 10.2 (d)(1), the human remains listed above represent the physical remains of 25 individuals of Native American ancestry. Officials of the State Historical Society of Iowa also have determined that, pursuant to 43 CFR 10.2 (d)(2), the 89 objects listed above are reasonably believed to have been placed with or near individual human remains at the time of death or later as part of the death rite or ceremony. Lastly, officials of the State Historical Society of Iowa have determined that, pursuant to 43 CFR 10.2 (e), there is a relationship of shared group identity that can be reasonably traced between these Native American human remains and associated funerary objects and the Mandan and Hidatsa tribes, members of the Three Affiliated Tribes of the Fort Berthold Reservation, North Dakota.

This notice has been sent to officials of the Three Affiliated Tribes of the Fort Berthold Reservation, North Dakota. Representatives of any other Indian tribe that believes itself to be culturally affiliated with these human remains and associated funerary objects should contact Jerome Thompson, State Historical Society of Iowa, New Historical Building, 600 East Locust, Des Moines, IA 50319-0290, telephone (515) 281-4221, before November 1, 2000. Repatriation of these human remains and associated funerary objects to the Three Affiliated Tribes of the Fort Berthold Reservation, North Dakota may begin after that date if no additional claimants come forward.

Dated: September 19, 2000.
John Robbins,
Assistant Director, Cultural Resources Stewardship and Partnerships.

[FR Doc. 00-25254 Filed 9-29-00; 8:45 am]

BILLING CODE 4310-70-F